ENVIRONMENTAL PROTECTION AGENCY

40 CFR Part 63

[EPA-HQ-OAR-2002-0085, EPA-HQ-OAR- 2003-0051; FRL-8471.1-04-OAR]

RIN 2060-AW65

National Emission Standards for Hazardous Air Pollutants for Coke Ovens: Pushing, Quenching, and Battery Stacks, and Coke Oven Batteries; Rescission of Extension of Compliance Deadlines for Coke Oven Facilities

AGENCY: Environmental Protection Agency (EPA).

ACTION: Final rule; rescission of interim final rule.

SUMMARY: The U.S. Environmental Protection Agency (EPA) is rescinding the interim final rule (IFR) titled “National Emission Standards for Hazardous Air Pollutants for Coke Ovens: Pushing, Quenching, and Battery Stacks, and Coke Oven Batteries; Residual Risk and Technology Review, and Periodic Technology Review,” published July 8, 2025. This rescission of the IFR effectively reinstitutes the compliance deadlines set forth in the 2024 final rule revising the National Emission Standards for Hazardous Air Pollutants (NESHAP) for the coke ovens source category, published July 5, 2024.

DATES: This rule is effective on December 5, 2025.

ADDRESSES: The EPA has established a docket for this action under Docket ID Nos. EPA-HQ-OAR-2002-0085 for the Pushing, Quenching, and Battery Stacks (PQBS) source category and EPA-HQ-OAR-2003-0051 for the Coke Oven Batteries (COB) source category. All documents in the docket are listed on the https://www.regulations.gov/ website. Although listed, some information is not publicly available, e.g., Confidential Business Information (CBI) or other information whose disclosure is restricted by statute. Certain other material, such as copyrighted material, is not placed on the internet and will be publicly available only in hard copy form. Publicly available docket materials are available either electronically through https://www.regulations.gov/, or in hard copy at the EPA Docket Center, WJC West Building, Room Number 3334, 1301 Constitution Ave. NW, Washington, DC. The Public Reading Room hours of operation are 8:30 a.m. to 4:30 p.m. Eastern Standard Time, Monday through Friday. The telephone number for the Public Reading Room is (202) 566-1744, and the telephone number for the EPA Docket Center is (202) 566-1742.

FOR FURTHER INFORMATION CONTACT: For information about this final rule, contact the U.S. EPA, Attn: Jonathan Witt, Mail Drop: D243-04, 109 T.W. Alexander Drive, P.O. Box 12055, Research Triangle Park, North Carolina 27711; telephone number: (919) 541-5645; email address: witt.jon@epa.gov.

SUPPLEMENTARY INFORMATION:

Preamble acronyms and abbreviations. Throughout this document the use of “we,” “us,” or “our” is intended to refer to the EPA. We use multiple acronyms and terms in this preamble. While this list may not be exhaustive, to ease the reading of this preamble and for reference purposes, the EPA defines the following terms and acronyms here:

AG acid gases

B/W bypass/waste heat

CAA Clean Air Act

CBI Confidential Business Information

CFR Code of Federal Regulations

COB coke oven batteries

CRA Congressional Review Act

D/F dioxins and furans

EIA Economic Impact Analysis

EPA Environmental Protection Agency

FR Federal Register

HAP hazardous air pollutant(s)

HCl hydrochloric acid

HCN hydrogen cyanide

HF hydrogen fluoride

HNR heat and nonrecovery (i.e., no chemical recovery), or nonrecovery with no heat recovery

HRSG heat recovery steam generator

IFR interim final rule

MACT maximum achievable control technology

NESHAP national emission standards for hazardous air pollutants

NTTAA National Technology Transfer and Advancement Act

OMB Office of Management and Budget

PAH polycyclic aromatic hydrocarbons

PM particulate matter

PRA Paperwork Reduction Act

PQBS pushing, quenching, and battery stacks

RFA Regulatory Flexibility Act

UMRA Unfunded Mandates Reform Act

VOHAP volatile organic HAP

Table of Contents

I. General Information

A. Does this action apply to me?

B. Where can I get a copy of this document and other related information?

II. Background

A. What is the statutory authority for this action?

B. What rule is being rescinded?

III. Why is the EPA rescinding the IFR?

IV. Statutory and Executive Order Reviews

A. Executive Order 12866: Regulatory Planning and Review and Executive Order 13563: Improving Regulation and Regulatory Review

B. Executive Order 14192: Unleashing Prosperity Through Deregulation

C. Paperwork Reduction Act (PRA)

D. Regulatory Flexibility Act (RFA)

E. Unfunded Mandates Reform Act of 1995 (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA)

K. Congressional Review Act (CRA)

I. General Information

A. Does this action apply to me?

As defined in the Initial List of Categories of Sources Under Section 112(c)(1) of the Clean Air Act Amendments of 1990 (57 FR 31576; July 16, 1992) and Documentation for Developing the Initial Source Category List, Final Report (EPA-450/3-91-030, July 1992), the Coke Oven Batteries (COB) source category includes emissions from the batteries themselves. The Pushing, Quenching, and Battery Stacks (PQBS) source category includes emissions from pushing and quenching operations, and from battery stacks at a coke oven facility. A coke oven facility is defined as a facility engaged in the manufacturing of metallurgical coke by the destructive distillation of coal.¹ The 2022 North American Industry Classification System (NAICS) code for the COB source category (40 CFR part 63, subpart L) is 324199 for “All Other Petroleum and Coal Products Manufacturing,” and for the PQBS source category (40 CFR part 63, subpart CCCCC) is 331110 for “Iron and Steel Mills and Ferroalloy Manufacturing.” The information provided in this section is not intended to be exhaustive but rather provides a guide for readers regarding the entities that this action is likely to affect. The compliance deadlines resulting from this action are directly applicable to the affected sources. Federal, state, local, and Tribal government entities will not be affected by this interim final action. Based on the information we have, 11 operating coke manufacturing facilities are subject to the NESHAP. If you have questions regarding the applicability of this action to a particular entity, consult the person listed in the FOR FURTHER INFORMATION CONTACT section.

¹ See 90 FR 29999, 29997 (July 8, 2025).

B. Where can I get a copy of this document and other related information?

In addition to being available in the docket, an electronic copy of this action will be available on the internet at https://www.epa.gov/stationary-sources-air-pollution/coke-ovens-batteries-national-emissions-standards-hazardous-air.

II. Background

A. What is the statutory authority for this action?

The Clean Air Act (CAA), and CAA section 112 in particular (42 U.S.C. 7412), provides the statutory authority to issue this action.

B. What rule is being rescinded?

On July 8, 2025,² the EPA issued an IFR that extended the compliance deadlines for certain standards that the EPA promulgated in the 2024 rule revisions to the Coke Ovens NESHAP.³ Specifically:

² Id. at 29997.

³ 89 FR 55684 (July 5, 2024).

• For the PQBS source category, the EPA extended compliance deadlines from January 6, 2026, to July 7, 2027, for certain maximum achievable control technology (MACT) standards, including:

○ New emission standards based on MACT for pushing operations: acid gases (AG), hydrogen cyanide (HCN), mercury (Hg), and polycyclic aromatic hydrocarbons (PAH) (which is also a surrogate for dioxins and furans (D/F), formaldehyde, and volatile organic HAP (VOHAP)); ⁴

⁴ Acid gases include hydrochloric acid (HCl) and hydrogen fluoride (HF).

○ New emission standards based on MACT for battery stacks: AG, HCN, Hg, and particulate matter (PM) (as a surrogate for non-Hg HAP metals);

○ New emission standards based on MACT for HNR heat recovery steam generator (HRSG) main stacks: AG, Hg, PAH (which is also a surrogate for formaldehyde), and PM (as a surrogate for non-Hg HAP metals);

○ New emission standards based on MACT for HNR bypass/waste heat (B/W) stacks: AG, formaldehyde (which is also a surrogate for VOHAP), Hg, PAH, and PM (as a surrogate for non-Hg HAP metals); and

○ A new MACT standard, in the form of a good combustion practices work practice standard, for PAH, D/F, and VOHAP emitted from battery stacks.

• For the COB source category, the EPA extended compliance deadlines from July 7, 2025, to July 5, 2027, for fenceline monitoring requirements; revised leak standards for doors, lids, and offtakes; and revised pressure monitoring requirements for oven doors at heat and nonrecovery (HNR) facilities.

As a result of rescinding the IFR, the original deadlines in the 2024 rule revisions to the Coke Ovens NESHAP will apply to this source category. As explained below, the EPA does not believe that rescinding the IFR will trigger immediate compliance difficulties with relevant deadlines and remains committed to engaging with relevant stakeholders to promote compliance efforts and provide technical assistance. Moreover, the EPA notes that interested parties will have an opportunity to comment on proposed changes to the Coke Ovens NESHAP in the forthcoming rulemaking, announced on March 12, 2025, to reconsider the applicable standards.

III. Why is the EPA rescinding the IFR?

On July 8, 2025, the Agency issued an IFR that extended the compliance dates for fenceline monitoring, PQBS MACT standards, leak limits for doors, lids, and offtakes, and HNR oven door requirements to July 5, 2027.⁵ The IFR stated that the comment period would remain open until August 7, 2025. On August 6, 2025, the EPA extended the comment period to September 25, 2025 (Doc. ID EPA-HQ-OAR-2003-0051-2006). On August 15, 2025, the EPA announced that the Agency would hold a public hearing on the IFR on September 4, 2025. In response to the comment period and at the public hearing, the EPA received a number of comments and oral submissions from interested stakeholders, including participants in the coke ovens industry and environmental groups.

⁵ 90 FR 29997.

At the time the EPA promulgated the IFR, the Agency had been made aware of serious concerns that, without the installation of additional controls that may be unavailable or infeasible, industry would be unable to comply with both the MACT standards for the PQBS source category and the leak limits for doors, lids, and offtakes in the COB source category, thus necessitating additional time beyond the compliance deadlines.⁶ Rather than risking serious disruption to coke processing, which would in turn disrupt production of iron and steel critical for our nation's infrastructure and national security interests, the EPA extended the compliance deadlines for these standards without prior notice and comment and invited public input on the necessity and details of the compliance date extensions.

⁶ Id. at 29997, 30001-02.

Among other things, the EPA solicited information from regulated parties on occurrences that would have constituted noncompliance with the standards as written in the 2024 Rule absent the compliance deadline extensions in IFR.

In response to the solicitation, the EPA received data on only a small number of exceedances of the standards for doors and lids (but not offtakes) that occurred prior to promulgation of the IFR (Doc. ID EPA-HQ-OAR-2003-0051-2013). Upon review of this and other information received in public comments and at the public hearing, the EPA does not believe that the currently available information supports a conclusion that regulated parties would face significant immediate compliance challenges meeting the PQBS MACT standards or the COB leak limits for doors, lids, and offtakes if the compliance deadlines were not changed, such that only a change in compliance date provided within the IFR would alleviate regulated parties' concerns. Thus, the EPA is rescinding the IFR compliance deadline extensions for these standards, as well as the extension for the associated fenceline monitoring requirements promulgated in the 2024 rule to promote compliance with the standards.

IV. Statutory and Executive Order Reviews

Additional information about these statutes and Executive orders can be found at https://www.epa.gov/laws-regulations/laws-and-executive-orders.

A. Executive Order 12866: Regulatory Planning and Review and Executive Order 13563: Improving Regulation and Regulatory Review

This action is not a significant regulatory action and therefore was not submitted to the Office of Management and Budget (OMB) for review. The EPA prepared an Economic Impact Analysis (EIA) estimating the compliance cost savings associated with extending these compliance deadlines. The EIA estimated the IFR would result in a present value (PV) of $8.1 million of compliance cost savings ($4.2 million equivalent annualized value, or EAV) using a 3 percent social discount rate and a PV of $7.9 million of compliance cost savings ($4.4 million EAV) using a 7 percent social discount rate. The estimated compliance cost savings resulted from two years during which operation and maintenance costs associated with the fenceline monitoring requirements and compliance testing, recordkeeping, and reporting costs associated with the new or revised emission standards were no longer required. The EAV were annualized over two years to reflect the length of time during which the EPA expected the compliance deadline extension to impact compliance costs at coke oven facilities relative to an analytical baseline requiring compliance at the original deadlines. This action rescinds the IFR, in effect reinstituting the compliance deadlines from the 2024 final rule. As a result, the EPA no longer expects the compliance cost savings estimated in the EIA to occur.

B. Executive Order 14192: Unleashing Prosperity Through Deregulation

This action is not an Executive Order 14192 regulatory action because this action is not significant under Executive Order 12866.

C. Paperwork Reduction Act (PRA)

This action does not impose any new information collection burden under the PRA. The Office of Management and Budget (OMB) has previously approved the information collection activities that apply to the coke oven facilities affected by this action and has assigned OMB control numbers 2060-0253 (COB NESHAP) and 2060-0521 (PQBS NESHAP). This action does not change the information collection requirements.

D. Regulatory Flexibility Act (RFA)

I certify that this action will not have a significant economic impact on a substantial number of small entities under the RFA. This action will not impose any requirements on small entities.

E. Unfunded Mandates Reform Act of 1995 (UMRA)

This action does not contain an unfunded mandate of $100 million (adjusted annually for inflation) or more as described in UMRA, 2 U.S.C. 1531-1538, and does not significantly or uniquely affect small governments. The action imposes no enforceable duty on any State, local or Tribal governments. Although this action creates an enforceable duty on the private sector, the cost does not exceed $100 million or more.

F. Executive Order 13132: Federalism

This action does not have federalism implications. It will not have substantial direct effects on the States, on the relationship between the National Government and the States, or on the distribution of power and responsibilities among the various levels of government.

G. Executive Order 13175: Consultation and Coordination With Indian Tribal Governments

This action does not have Tribal implications as specified in Executive Order 13175. This rule will implement revisions to the compliance dates for certain provisions. Thus, Executive Order 13175 does not apply to this action.

H. Executive Order 13045: Protection of Children From Environmental Health Risks and Safety Risks

Executive Order 13045 directs Federal agencies to include an evaluation of the health and safety effects of the planned regulation on children in Federal health and safety standards and explain why the regulation is preferable to potentially effective and reasonably feasible alternatives. This action is not subject to Executive Order 13045 because it is not a significant regulatory action under section 3(f)(1) of Executive Order 12866, and because the EPA does not believe the environmental health or safety risks addressed by this action present a disproportionate risk to children.

I. Executive Order 13211: Actions Concerning Regulations That Significantly Affect Energy Supply, Distribution, or Use

This action is not subject to Executive Order 13211, because it is not a significant regulatory action under Executive Order 12866.

J. National Technology Transfer and Advancement Act (NTTAA)

This action does not involve technical standards; therefore, the NTTAA does not apply.

K. Congressional Review Act (CRA)

This action is subject to the CRA, 5 U.S.C. 801-808, and the EPA will submit a rule report to each House of the Congress and to the Comptroller General of the United States. This is not a major action as defined by 5 U.S.C. 804(2).

List of Subjects in 40 CFR Part 63

Environmental protection, Administrative practice and procedures, Air pollution control, Hazardous substances, Reporting and recordkeeping requirements.

Lee Zeldin,
Administrator.

For the reasons stated in the preamble, the Environmental Protection Agency amends part 63 of title 40, chapter I, of the Code of Federal Regulations as follows:

PART 63—NATIONAL EMISSION STANDARDS FOR HAZARDOUS AIR POLLUTANTS FOR SOURCE CATEGORIES

1. The authority citation for part 63 continues to read as follows:

Authority: 42 U.S.C. 7401 et seq.

Subpart L—National Emission Standards for Coke Oven Batteries

2. Amend § 63.302 by revising paragraph (a)(4) introductory text and paragraph (d) introductory text to read as follows:

§ 63.302 Standards for by-product coke oven batteries.

(a) * * *

(4) On and after July 7, 2025:

* * * * *

(d) Emission limitations and requirements applied to each coke oven battery utilizing a new recovery technology shall be less than the following emission limitations or shall result in an overall annual emissions rate for coke oven emissions for the battery that is lower than that obtained by the following emission limitations on and after July 7, 2025:

* * * * *

3. Amend § 63.303 by revising paragraphs (a)(1)(iii) and (b)(1)(iii) to read as follows:

§ 63.303 Standards for nonrecovery coke oven batteries.

(a) * * *

(1) * * *

(iii) The date for compliance with paragraphs (a)(1)(i) and (ii) of this section is on and after July 7, 2025.

* * * * *

(b) * * *

(1) * * *

(iii) The date for compliance with paragraphs (b)(1)(i) and (ii) of this section is on and after July 7, 2025, or upon initial startup, whichever is later.

* * * * *

4. Amend § 63.304 by revising paragraph (b)(8) introductory text to read as follows:

§ 63.304 Standards for compliance date extension.

* * * * *

(b) * * *

(8) On and after July 7, 2025:

* * * * *

5. Amend § 63.311 by revising paragraph (h) to read as follows:

§ 63.311 Reporting and recordkeeping requirements.

* * * * *

(h) Electronic reporting of compliance certification reports. Beginning on July 7, 2025, or once the report template for this subpart has been available on the EPA's Compliance and Emissions Data Reporting Interface (CEDRI) website for one year, whichever date is later, submit all subsequent reports to the EPA via the CEDRI according to § 63.9(k) except that confidential business information (CBI) should be submitted according to paragraph (k) of this section.

* * * * *

6. Amend § 63.314 by revising the introductory text to read as follows:

§ 63.314 Fenceline monitoring provisions.

For each by-product coke oven battery facility as defined in § 63.301, beginning no later than July 7, 2025, the owner or operator of a coke manufacturing facility shall conduct sampling along the facility property boundary and analyze the samples in accordance with paragraphs (a) through (g) of this section.

* * * * *

Subpart CCCCC—National Emission Standards for Hazardous Air Pollutants for Coke Ovens: Pushing, Quenching, and Battery Stacks

7. Amend § 63.7283 by revising paragraphs (d)(1) and (2) to read as follows:

§ 63.7283 When do I have to comply with this subpart?

* * * * *

(d) * * *

(1) If you have an existing affected source or a new or reconstructed affected source for which construction or reconstruction commenced on or before August 16, 2023, you must be in compliance no later than January 5, 2026.

(2) If you have a new or reconstructed affected source for which construction or reconstruction commenced after August 16, 2023, you must be in compliance no later than January 5, 2026, or upon startup, whichever is later.

* * * * *

8. Amend § 63.7300 by revising paragraph (c)(4) introductory text to read as follows:

§ 63.7300 What are my operation and maintenance requirements?

* * * * *

(c) * * *

(4) Beginning January 5, 2026, you must identify and implement a set of site-specific good combustion practices for each battery. These good combustion practices should correspond to your standard operating procedures for maintaining the proper and efficient combustion within battery waste heat flues. Good combustion practices include, but are not limited to, the elements listed in paragraphs (c)(4)(i) through (v) of this section.

* * * * *

9. Amend § 63.7341 by revising paragraph (f) to read as follows:

§ 63.7341 What reports must I submit and when?

* * * * *

(f) Electronic reporting of compliance reports. Beginning on July 7, 2026, or once the report template for this subpart has been available on the CEDRI website for one year, whichever date is later, submit all subsequent reports to the EPA via the CEDRI according to § 63.9(k) except that confidential business information (CBI) should be submitted according to paragraph (h) of this section.

* * * * *

[FR Doc. 2025-22034 Filed 12-4-25; 8:45 am]

BILLING CODE 6560-50-P